OFFICE OF PERSONNEL MANAGEMENT

Federal Employees' Retirement System; Present Value Factors

AGENCY: Office of Personnel Management.

ACTION: Notice, correction.

SUMMARY: The Office of Personnel Management published a document in the Federal Register of May 17, 2019, concerning adjusted present value factors applicable to retirees who elect to provide survivor annuity benefits to a spouse based on post-retirement marriage, and to retiring employees who elect the alternative form of annuity or elect to credit certain service with nonappropriated fund instrumentalities. The document referenced a different, separate notice and cited incorrect publication dates for the other notice.

FOR FURTHER INFORMATION CONTACT: Karla Yeakle, (202) 606-0299.

SUPPLEMENTARY INFORMATION:

Correction

In the Federal Register of May 17, 2019, in FR Doc. 84 FR 22527, on page 22528, in the first column, the notice cross references another notice that revises the normal cost percentage under the Federal Employees' Retirement System (FERS) Act of 1986, Public Law 99-335. It states that the Federal Employees' Retirement System (FERS) Normal Cost notice was published May 17, 2019. It was actually published May 20, 2019.

Office of Personnel Management.
Alexys Stanley,
Regulatory Affairs Analyst.

[FR Doc. 2019-10850 Filed 5-23-19; 8:45 am]

BILLING CODE 6325-38-P